DEPARTMENT OF THE INTERIOR

Office of the Secretary

[Docket No. DOI-2017-0002]

Review of Certain National Monuments Established Since 1996; Notice of Opportunity for Public Comment

AGENCY: Office of the Secretary, Interior.

ACTION: Notice; Request for comments.

SUMMARY: The U.S. Department of the Interior is conducting a review of certain National Monuments designated or expanded since 1996 under the Antiquities Act of 1906 in order to implement Executive Order 13792 of April 26, 2017. The Secretary of the Interior will use the review to determine whether each designation or expansion conforms to the policy stated in the Executive Order and to formulate recommendations for Presidential actions, legislative proposals, or other appropriate actions to carry out that policy. This Notice identifies twenty-seven National Monuments under review and invites comments to inform the review.

DATES: To ensure consideration, written comments relating to the Bears Ears National Monument must be submitted before May 26, 2017. Written comments relating to all other National Monuments must be submitted before July 10, 2017.

ADDRESSES: You may submit written comments online at http://www.regulations.gov by entering “DOI-2017-0002” in the Search bar and clicking “Search,” or by mail to Monument Review, MS-1530, U.S. Department of the Interior, 1849 C Street NW., Washington, DC 20240.

FOR FURTHER INFORMATION CONTACT: Randal Bowman, 202-208-1906, RR_Bowman@ios.doi.gov.

SUPPLEMENTARY INFORMATION: Executive Order 13792 of April 26, 2017 (82 FR 20429, May 1, 2017), directs the Secretary of the Interior to review certain National Monuments designated or expanded under the Antiquities Act of 1906, 54 U.S.C. 320301-320303 (Act). Specifically, Section 2 of the Executive Order directs the Secretary to conduct a review of all Presidential designations or expansions of designations under the Antiquities Act made since January 1, 1996, where the designation covers more than 100,000 acres, where the designation after expansion covers more than 100,000 acres, or where the Secretary determines that the designation or expansion was made without adequate public outreach and coordination with relevant stakeholders, to determine whether each designation or expansion conforms to the policy set forth in section 1 of the order. Among other provisions, Section 1 states that designations should reflect the Act's “requirements and original objectives” and “appropriately balance the protection of landmarks, structures, and objects against the appropriate use of Federal lands and the effects on surrounding lands and communities.” 82 FR 20429 (May 1, 2017).

In making the requisite determinations, the Secretary is directed to consider:

(i) The requirements and original objectives of the Act, including the Act's requirement that reservations of land not exceed “the smallest area compatible with the proper care and management of the objects to be protected”;

(ii) whether designated lands are appropriately classified under the Act as “historic landmarks, historic and prehistoric structures, [or] other objects of historic or scientific interest”;

(iii) the effects of a designation on the available uses of designated Federal lands, including consideration of the multiple-use policy of section 102(a)(7) of the Federal Land Policy and Management Act (43 U.S.C. 1701(a)(7)), as well as the effects on the available uses of Federal lands beyond the monument boundaries;

(iv) the effects of a designation on the use and enjoyment of non-Federal lands within or beyond monument boundaries;

(v) concerns of State, tribal, and local governments affected by a designation, including the economic development and fiscal condition of affected States, tribes, and localities;

(vi) the availability of Federal resources to properly manage designated areas; and

(vii) such other factors as the Secretary deems appropriate. 82 FR 20429-20430 (May 1, 2017).

The National Monuments being initially reviewed are listed in the following tables.

National Monuments Being Initially Reviewed Pursuant to Criteria in Executive Order 13792
Monument | Location | Year(s) | Acreage
Basin and Range | Nevada | 2015 | 703,585
Bears Ears | Utah | 2016 | 1,353,000
Berryessa Snow Mountain | California | 2015 | 330,780
Canyons of the Ancients | Colorado | 2000 | 175,160
Carrizo Plain | California | 2001 | 204,107
Cascade Siskiyou | Oregon | 2000/2017 | 100,000
Craters of the Moon | Idaho | 1924/2000 | 737,525
Giant Sequoia | California | 2000 | 327,760
Gold Butte | Nevada | 2016 | 296,937
Grand Canyon-Parashant | Arizona | 2000 | 1,014,000
Grand Staircase-Escalante | Utah | 1996 | 1,700,000
Hanford Reach | Washington | 2000 | 194,450.93
Ironwood Forest | Arizona | 2000 | 128,917
Mojave Trails | California | 2016 | 1,600,000
Organ Mountains-Desert Peaks | New Mexico | 2014 | 496,330
Rio Grande del Norte | New Mexico | 2013 | 242,555
Sand to Snow | California | 2016 | 154,000
San Gabriel Mountains | California | 2014 | 346,177
Sonoran Desert | Arizona | 2001 | 486,149
Upper Missouri River Breaks | Montana | 2001 | 377,346
Vermilion Cliffs | Arizona | 2000 | 279,568

National Monuments Being Reviewed To Determine Whether the Designation or Expansion Was Made Without Adequate Public Outreach and Coordination With Relevant Stakeholders
Katahadin Woods and Waters | Maine | 2016 | 87,563

The Department of the Interior seeks public comments related to: (1) Whether national monuments in addition to those listed above should be reviewed because they were designated or expanded after January 1, 1996 “without adequate public outreach and coordination with relevant stakeholders;” and (2) the application of factors (i) through (vii) to the listed national monuments or to other Presidential designations or expansions of designations meeting the criteria of the Executive Order. With respect to factor (vii), comments should address other factors the Secretary might consider for this review.

In a separate but related process, certain Marine National Monuments will also be reviewed. As directed by section 4 of Executive Order 13795 of April 28, 2017, “Implementing an America-First Offshore Energy Strategy” (82 FR 20815, May 3, 2017), the Department of Commerce will lead the review of the Marine National Monuments in consultation with the Secretary of the Interior. To assist in that consultation, the Secretary will accept comments related to the application of factors (i) through (vii) in Executive Order 13792 as set forth above to the following Marine National Monuments:

Marine National Monuments Being Reviewed Pursuant to Executive Orders 13795 and 13792
Marianas Trench | CNMI/Pacific Ocean | 2009 | 60,938,240
Northeast Canyons and Seamounts | Atlantic Ocean | 2016 | 3,114,320
Pacific Remote Islands | Pacific Ocean | 2009 | 55,608,320
Papahanaumokuakea | Hawaii | 2006/2016 | 89,600,000
Rose Atoll | American Samoa | 2009 | 8,609,045

Before including your name, address, phone number, email address, or other personal identifying information in your comment, you should be aware that your entire comment—including your personal identifying information—may be made publicly available at any time. While you may ask us in your comment to withhold your personal identifying information from public review, we cannot guarantee that we will be able to do so.

Authority: E.O. 13792, 82 FR 20429 (May 1, 2017).

James Cason,
Special Assistant, Delegated the Functions, Duties, and Responsibilities of the Deputy Secretary.

[FR Doc. 2017-09490 Filed 5-10-17; 8:45 am]

BILLING CODE 4334-64-P